Title 3—

The President

Memorandum of February 15, 2007

Assignment of Functions Relating to the Transfer of a Ship to the Government of Greece

Memorandum for the Secretary of Transportation [and] Secretary of State

By the authority vested in me by the Constitution and the laws of the United States, including section 301 of title 3, United States Code, and section 1019 of the John Warner National Defense Authorization Act for Fiscal Year 2007 (Public Law 109-364) (the “Act”), I hereby assign to the Secretary of Transportation the functions of the President under section 1019 of the Act. The Secretary of Transportation should consult the Secretary of State as appropriate in the performance of such functions.

The Secretary of Transportation is authorized and directed to publish this memorandum in the Federal Register.

THE WHITE HOUSE,

Washington, February 15, 2007.

[FR Doc. 07-786

Filed 2-16-07; 11:24 am]

Billing code 4910-62-M